Proclamation 8877 of October 1, 2012

National Domestic Violence Awareness Month, 2012

By the President of the United States of America

A Proclamation

For far too long, domestic violence was ignored or treated as a private matter where victims were left to suffer in silence without hope of intervention. As we mark the 18th anniversary of the landmark Violence Against Women Act, authored by Vice President Joe Biden, we reflect on how far we have come. We have made significant progress in changing laws and attitudes, providing support to survivors, and reducing the incidence of domestic violence. But we also know that we have not come far enough, and that there is more work left to be done. During National Domestic Violence Awareness Month, we stand with all those who have been affected by this terrible crime, recognize the individuals and groups who have stepped forward to break the cycle of violence, and recommit to putting an end to domestic violence in America.

Despite considerable progress in reducing domestic violence, an average of three women in the United States lose their lives every day as a result of these unconscionable acts. And while women between the ages of 16 and 24 are among the most vulnerable to intimate partner violence, domestic violence affects people regardless of gender, age, sexual orientation, race, or religion. Tragically, without intervention, children exposed to such violence can suffer serious long-term consequences that may include difficulty in school, post-traumatic disorders, alcohol and drug abuse, and criminal behavior.

My Administration remains committed to getting victims the help they need, from emergency shelter and legal assistance to transitional housing and services for children. We are also working to stop violence before it starts. Last year, agencies across the Federal Government held town hall meetings nationwide to promote men's roles in ending violence against women. Through Vice President Biden's 1is2many initiative, we built on that progress earlier this year by releasing a public service announcement that features professional athletes and other role models speaking out against dating violence. This April, I directed leaders throughout my Administration to increase efforts to prevent and combat domestic violence involving Federal employees and address its effects on the Federal workforce. Since August, the Affordable Care Act has required most insurance plans to make domestic violence screening and counseling available as a preventive service for women—without co-payments, deductibles, or other cost-sharing. And most recently, we developed a new initiative to reduce domestic violence homicides through high risk screening and linking victims with services. Moreover, my Administration looks forward to working with the Congress to strengthen and reauthorize the Violence Against Women Act.

While government must do its part, all Americans can play a role in ending domestic violence. Each of us can promote healthy relationships, speak out when we see injustice in our communities, stand with survivors we know, and change attitudes that perpetuate the cycle of abuse. We must also ensure that survivors of domestic violence know they are not alone, and that there are resources available to them. I encourage victims, their loved ones, and concerned citizens to learn more by calling the National Domestic Violence Hotline at 1-800-799-SAFE, or by visiting www.TheHotline.org.

This month, let us renew our efforts to support victims of domestic violence in their time of greatest need, and to realize an America where no one lives in fear because they feel unsafe in their own home.

NOW, THEREFORE, I, BARACK OBAMA, President of the United States of America, by virtue of the authority vested in me by the Constitution and the laws of the United States, do hereby proclaim October 2012 as National Domestic Violence Awareness Month. I call on all Americans to speak out against domestic violence and support local efforts to assist victims of these crimes in finding the help and healing they need.

IN WITNESS WHEREOF, I have hereunto set my hand this first day of October, in the year of our Lord two thousand twelve, and of the Independence of the United States of America the two hundred and thirty-seventh.

[FR Doc. 2012-24682

Filed 10-3-12; 8:45 am]

Billing code 3295-F3